DEPARTMENT OF HEALTH AND HUMAN SERVICES

Centers for Disease Control and Prevention

Clinical Laboratory Improvement Advisory Committee (CLIAC); Correction

Notice is hereby given of a change in the meeting of the Clinical Laboratory Improvement Advisory Committee (CLIAC); November 6, 2019, 8:30 a.m. to 5:00 p.m., EST and November 7, 2019, 8:30 a.m. to 12:00 p.m., EST which was published in the Federal Register on August 30, 2019, Volume 84, Number 169, pages 45765-45766.

The MATTERS TO BE CONSIDERED should read as follows: The agenda will include agency updates from CDC, the Centers for Medicare and Medicaid Services (CMS); and the Food and Drug Administration (FDA). Presentations and discussions will focus on a follow up on CLIAC recommendations; an update on the clinical laboratory workforce; improving integration of laboratory information systems with electronic health records; and future CLIAC topics. There will be an extended public comment session focusing on emerging technologies and the clinical laboratory. Agenda items are subject to change as priorities dictate.

FOR FURTHER INFORMATION CONTACT: Nancy Anderson, MMSc, MT(ASCP), Senior Advisor for Clinical Laboratories, Division of Laboratory Systems, Center for Surveillance, Epidemiology and Laboratory Services, Office of Public Health Scientific Services, Centers for Disease Control and Prevention, 1600 Clifton Road NE, Mailstop V24-3, Atlanta, Georgia 30329-4027, telephone (404) 498-2741; NAnderson@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2019-20180 Filed 9-17-19; 8:45 am]

BILLING CODE 4163-18-P